NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice. The full submission may be found at: http://www.reginfo.gov/public/do/PRAMain.

DATES: Comments regarding this information collection are best assured of having their full effect if received by June 10, 2019.

FOR FURTHER INFORMATION CONTACT: Office of Information and Regulatory Affairs of OMB, Attention: Desk Officer for National Science Foundation, 725 17th Street NW, Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission(s) may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section.

Title of Collection: Evaluation of the National Science Foundation Advanced Technological Education Program.

OMB Number: 3145-NEW.

Type of Request: Intent to seek approval to establish an information collection.

Abstract: The ATE program is designed to (1) produce more qualified science and engineering technicians to meet workforce demands and (2) improve the technical skills and the general science, technology, engineering, and mathematics (STEM) preparation of these technicians and the educators who teach them. The ATE program provides federal funds through four tracks: Projects, centers, small grants for institutions new to the ATE program, and targeted research on technician education. The purpose of the outcomes study is to examine the capacity of academic institutions to educate STEM technicians, the partnerships between academic institutions and industry, the academic and employment outcomes of students, and the receipt of professional development by technical educators. To that end, the new collection of data for the outcomes study is a web survey of principal investigators (PIs) designed to collect new information about these topics and is scheduled to take place from April 2019 through September 2019. The population of interest consists of projects and centers—the tracks most likely to provide direct support for technician education—that first received funding between fiscal year (FY) 2011 and 2015 and includes awards that are currently active and those that have expired.

Use of the Information: The primary purpose of collecting this information is program evaluation. The data collected will enable NSF to describe program components that are implemented with ATE funds and will be used by NSF to monitor and improve the program and assess its merit and worth. The evaluation will also inform the design of a future impact evaluation.

Expected Respondents: The expected respondents are up to 204 ATE PIs who have received ATE funding since 2007.

Estimate of Burden: The collection occurs once for each respondent. The total estimate for this collection is 204 burden hours and $5,146.

Dated: May 7, 2019.
Suzanne H. Plimpton,
Reports Clearance Officer, National Science Foundation.

[FR Doc. 2019-09675 Filed 5-9-19; 8:45 am]

BILLING CODE 7555-01-P